DEPARTMENT OF TRANSPORTATION

National Highway Traffic Safety Administration

[Docket No. NHTSA 2000-6787; Notice 1]

Currie Technologies, Inc., Receipt of Application for Temporary Exemption From Federal Motor Vehicle Safety Standards Nos. 108 and 123

Currie Technologies, Inc. (“Currie”), of Van Nuys, California, a Nevada Corporation, has applied for a temporary exemption of two years from certain requirements of Federal Motor Vehicle Safety Standard No. 108 Lamps, Reflective Devices and Associated Equipment, and of Federal Motor Vehicle Safety Standard No. 123 Motorcycle Controls and Displays. The basis of the request is that “compliance would cause substantial economic hardship to a manufacturer that has tried to comply with the standard in good faith,” 49 U.S.C. Sec. 30113(b)(3)(B)(i).

We are publishing this notice of receipt of an application in accordance with the requirements of 49 U.S.C. 30113(b)(2), and does not represent any judgment on the merits of the application.

Why Currie Says That it Needs a Temporary Exemption

Since March 1, 1997, Currie has produced “fewer than 1,000” electric bicycles with a “power assist.” Its “power assisted” electric bicycles incorporate a “pedal torque enable system” which require that the rider pedal the bicycle in order to activate the motor. Because Currie's “power assist” will not operate in the absence of muscular power, a bicycle equipped with the “power assist” is not a motor vehicle subject to our regulations. Currie now intends to manufacture a bicycle propelled by an electric motor of less than ½ hp which will operate in the absence of muscular power. A motorized bicycle that can operate in the absence of muscular power is a “motor vehicle.” As the manufacturer of a “motor vehicle,” Currie must comply with all applicable Federal motor vehicle safety regulations. For purposes of compliance with the Federal motor vehicle safety standards, any two-wheeled motor vehicle is a “motorcycle.” However, some provisions of the Federal motor vehicle motorcycle safety standards contain lesser performance requirements for “motor driven cycles.” These are motorcycles with engines producing 5 hp or less, such as the Currie vehicle.

Currie believes that compliance with portions of the Federal motorcycle safety standards on lighting and controls will cause it substantial economic hardship. It requests that it be exempted from providing the headlamps, taillamps, stop lamps, and license plate lamps required by Standard No. 108, and handlebar-located front and rear brake controls.

Why Currie Says That Compliance Would Cause Substantial Economic Hardship and it Has Tried in Good Faith To Comply With the Standards

Currie's resources are limited. From its inception on February 28, 1997 through December 31, 1998, the company had cumulative net losses of $703,054. The costs of tooling for the lamps needed to comply with Standard No. 108 are estimated to be $120,000. This, in turn, would require an increase in the retail cost of each vehicle that could be as much as $300. The vehicle currently retails for $899, and if the company raises the price to $1,199, “this will result in pricing the product well above the $1,000 price point threshold and effectively nullify all future sales.” Further, “with the money invested in the company to date and the requirement for at least minimum operating capital, our company will go out of business unless minimum capital to cover operating expenses is generated through sales.” Beginning in July 1998, it researched and tested off-the-shelf motorcycle and moped headlamps, taillamps and stop lamps at Jute Manufacturing Company in Taiwan. Currie found that these lamps added over 5 pounds weight, reducing the total range per charge (which reduces the appeal of the product as range per charge decreases). The batteries of the Currie electric bicycle carry only 250 watt-hours; the lamps tested are inefficient and will draw more energy from the batteries. To provide heavier, more efficient batteries will increase the price and reduce the range per charge. While the exemption is in effect, Currie will explore other options such as designing vehicle-specific lighting equipment. It estimates that it can achieve compliance by December 2000. During the exemption period, its vehicles will be equipped with the following reflectors: one white in front, one red in rear, one white on each rim, and two yellow on each pedal.

The company's arguments about compliance with Standard No. 123 are based upon its safety views. A bicycle is configured to have the lever controlling the rear brake on the right handlebar. To reverse this position creates the possibility of confusion in riders who must apply brakes quickly. Currie gives as an example:

When coasting too fast down hills, the natural instinct is to activate the right-hand lever (rear brake) first. This prevents the rear end of the bicycle from cartwheeling over the front. With the brake reversal, the front brake is activated first, causing dangerous catapulting. This is a common occurrence with novice bicyclists. The moped brake reversal accentuates this danger, and, in fact, a number of accidents have occurred for this reason.

The company does comply with the requirements of the Consumer Product Safety Commission (CPSC) for bicycles that the rear brake shall be activated by a control located on the right handlebar and the front brake activated by a control on the left handlebar.

Why Currie Says that an Exemption is Consistent With the Public Interest and the Objectives of Motor Vehicle Safety

Currie submits that the electric bicycle “is an environmentally friendly, zero-emission vehicle, and that mass-marketed electric bicycles “will help to ease the transition from gas powered vehicles into the nascent electric vehicle market.”

Because the maximum speed of the electric bicycle is 16 mph when driven by the motor alone, and because a standard bicycle without motor “can easily travel at speeds greater than 16 mph, solely under human input,” Currie argues that “this electric bicycle should not be required to have any greater illumination requirements than that of a standard bicycle.” It believes that aftermarket bicycle lights are adequate. On November 10, 1999, it informed us that “typical halogen bicycle lights are added for night operation as for regular bicycles.”

In addition to the arguments regarding its compliance with the brake control specifications of the CPSC, as discussed above, Currie is concerned that, as its electric bicycle “looks, feels, and rides like a standard bicycle,” a rider familiar with bicycle braking systems might make a mistake were the electric bicycle to conform with Standard No. 123's opposite specifications, and believes that an exemption from these requirements “is more consistent * * * than maintaining the control location and operation * * *.”

An Issue on Which We Request Specific Comment

It has come to our attention that the EV Global, an electric bicycle, is advertised as being equipped with a tail lamp and a headlamp, both represented as complying with the motorcycle requirements of Standard No. 108. We asked Currie to explain why it was requesting an exemption for these items of lighting equipment. Currie replied that the EV Global lamps “are specially developed high intensity lamps that are proprietary to their company.” Although the lamps may comply with Standard No. 108, “the tooling and production of these lamps is expensive and will cause substantial economic hardship.” By contrast, the Currie product “is much lighter and much less expensive (it uses a regular bicycle frame), it meets a different segment of the market and is a true electric bicycle.”

Interested persons are invited to submit comments on the application described above. Comments should refer to the docket number and the notice number, and be submitted to: Docket Management, Room PL-401, 400 Seventh Street, SW, Washington, DC 20590. It is requested, but not required, that 10 copies be submitted.

All comments received before the close of business on the comment closing date indicated below will be considered, and will be available for examination in the docket at the above address both before and after that date. The Docket Room is open from 10 a.m. until 5 p.m. To the extent possible, comments filed after the closing date will also be considered.

Notice of final action on the application will be published in the Federal Register pursuant to the authority indicated below.

Comment closing date: February 22, 2000.

(49 U.S.C. 30113; delegations of authority at 49 CFR 1.50. and 501.8)
Issued on January 13, 2000.
Stephen R. Kratzke,
Acting Associate Administrator for Safety Performance Standards.

[FR Doc. 00-1354 Filed 1-19-00; 8:45 am]

BILLIING CODE 4910-59-P